DEPARTMENT OF AGRICULTURE

Forest Service

Bridger-Teton National Forest; Wyoming; Teton to Snake Fuels Management Project

AGENCY: Forest Service, USDA.

ACTION: Notice of intent to prepare an environmental impact statement.

SUMMARY: The Forest Service is preparing an environmental impact statement (EIS) to document the potential effects of the Teton to Snake Fuels Management Project. The analysis will evaluate and disclose the effects of treating National Forest land to reduce the potential fire behavior within the wildland-urban interface to better protect threatened values, to improve firefighter safety, and to allow fire to play a more natural role in the ecosystem. Treatments include understory thinning and prescribed fire some of which are located within the Palisades Wilderness Study Area (WSA) and Inventoried Roadless Areas (IRAs). Connected actions necessary to implement the proposed treatments include road maintenance, reconstruction, temporary road and landing construction and obliteration, and construction of fire control lines where needed to contain prescribed fire treatments. No road work or commercial vegetation treatments would occur within the WSA. Road maintenance would occur in a small portion of the Phillips Ridge IRA but no reconstruction would occur. The project is located in Teton and Lincoln Counties, Wyoming, west of the Jackson Hole valley and Snake River corridor, and east of the Caribou-Targhee National Forest.

The Teton to Snake Fuels Management Project was previously scoped and anyalyzed through an environmental assessment (EA) process. The EIS alternatives developed to date are the same as those in the EA. Public comments received on the original Proposed Action, Alternative 2, included support of the project as proposed, but also concerns that the proposed treatments constitute human manipulation in the WSA which could adversely affect wildlife, wilderness character, and eligibility for future designation in the National Wilderness Preservation System. Concern about proposed thinning treatments in the IRAs was also expressed. Requested modifications included reducing the amount of prescribed burning and eliminating all thinning treatments in the WSA and IRAs. Additionally concern was expressed that the proposed action could have adverse effects to habitat for boreal owls and goshawks, as well as reduce old growth habitat. The Forest Service responded to these concerns by developing a new alternative (Alternative 3—Reduce Potential Impacts to Special Areas and Wildlife Habitat), which reduces activities in the WSA and IRAs and avoids goshawk habitat, whitebark pine, boreal forest, and old growth habitat. Changes include dropping, reconfiguring, and reducing the size of units, and changing treatment prescriptions. In addition to the above resource concerns, units were modified or dropped if they also had potential impacts to visual quality, implementation difficulty, or topography that could slow an advancing wildfire. Also considered was the proximity of hazardous fuels to homes and to other fuel reduction projects that could contribute to reducing fire behavior in the project area. The Jackson Ranger District may be contacted for specific treatment unit revisions made in developing Alternative 3.

DATES: Comments submitted during the scoping period for the environmental assessment (EA) beginning in 2010 will be brought forward into the EIS analysis so there is no need to re-submit them. New comments would be most useful if they present new information or describe specific unwanted effects of implementing Alternative 3. Comments concerning the scope of the analysis must be received by April 1st, 2013. The draft environmental impact statement is expected in July 2013 and the final environmental impact statement is expected September 2013.

ADDRESSES: Send written comments to Dale Deiter, District Ranger, USDA Forest Service, Bridger-Teton National Forest, 25 Rosencrans Lane, P.O. Box 1689, Jackson, WY 83001. Comments may also be sent via email to comments-intermtn-bridger-teton-jackson@fs.fed.us or via facsimile to (307) 739-5450. Verbal comments must be received in person at the Jackson Ranger Station, 25 Rosencrans Lane, Jackson, WY, or by telephone at (307) 739-5431 during normal business hours (8:00 a.m.-4:30 p.m.).

FOR FURTHER INFORMATION CONTACT: Visit our projects Web site at http://www.fs.usda.gov/goto/btnf/projects or contact Jason Lawhon, North Zone Fuels Assistant Fire Management Officer, phone (307) 739-5431 or email jdlawhon@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to (1) reduce wildland fire threat to residential areas, (2) allow Forest managers to transition from suppressing most fires to a more natural fire regime, and (3) improve firefighter and public safety.

The project area lies within the wildland-urban interface (WUI) as identified by Teton County's Community Wildfire Protection Plan. As per the National Fire Plan, the National Cohesive Wildland Fire Management Strategy, and the Healthy Forests Restoration Act, the Forest Service has made the commitment to protect human communities from wildfires originating on public lands by implementing hazardous fuel reduction projects on Federal lands within the WUI. A fire behavior assessment conducted in 2010 revealed that 42 percent of the area within one-quarter mile of residential areas and the Bonneville Power Administration powerline could produce flame lengths over 4 feet, and 25 percent of this same area could produce crown fires and potential spotting up to a mile ahead of the fire. Wildfires are difficult to suppress under these conditions, particularly with the prevailing winds pushing fire toward the resdiential areas bordering the project area on the east. Additionally, there is a need to remove some snags in close proximity to homes, where firefighters would be located, to promote safety during firefighting activities.

Wilderness policy dictates that the Forest Service shall “reduce, to an acceptable level, the risks and consequences of wildfire within wilderness or escaping from wilderness.” Most of the project area is located within the Palisades Wilderness Study. There is a need to reduce potential fire behavior along the National Forest boundary to reduce the threat of wildfire spreading to residential areas, and to provide the opportunity for wildfire to play a more natural role in the ecosytem. The Wyoming Wilderness Act requires that the Palisades WSA be managed to preserve wilderness character, which includes allowing natural processes of ecological change, such as fire, to operate freely to the extent possible. However, this can only occur if fire managers feel they have a reasonable chance of keeping the fire from escaping off of National Forest System lands.

Proposed Action

Alternative 3 proposes to treat 35 units totalling 14,281 acres through thinning (1,757 acres) and prescribed burning (12,524 acres). Thinning would favor large tree retention using the general priority order of whitebark and limber pine, aspen, Douglas-fir, lodgepole pine, Engelmann spruce, and subalpine fir. Thinning would leave 70 to 200 trees per acre in the non-commercial units, and 60 to 140 trees per acre in the commercial units. Conifers in and around aspen clones would be thinned to release suppressed aspen. Residual branches, logs, and other resulting debris would be hand- or machine-piled and burned in the units or on the landings, or scattered to further reduce fuel concentrations in the project area. Ladder fuels would be pruned in some units. Snags would be removed as needed for firefighter safety in portions of 27 units located in close proximity to residential areas. Road reconstruction would occur on 1.3 miles of National Forest roads and a total of 1 mile of temporary road would be constructed and then obliterated after use. Routine maintenance would occur on 11.7 miles of roads. Approximately 27 landings would be used.

Prescribed fire would reduce fire potential while creating a mosaic of burned and unburned areas. Ground and aerial ignition techniques would adhere to site-specific burn plans that identify parameters for weather, air quality, contingency resources, other resource concerns, equipment needs, and responses for potential escapes. Fire managers would use, and subsequently rehabilitate, up to seven miles of low-impact fire control lines if needed to contain prescribed fire. Natural barriers to fire spread would be used where possible.

Alternative 3 includes extensive project design features and best practices to avoid or reduce impacts to cultural resources, water resources, range, recreation, scenery, sensitive plants, air quality, soils, special areas, and wildlife.

Possible Alternatives

At this time it is planned that the EIS will examine Alternative 1 (No Action), Alternative 2 (Proposed Action originally scoped in December 2010 and modified after further analysis), and Alternative 3—Reduce Potential Impacts to Special Areas and Wildlife Habitat (developed to address public concerns after original scoping period).

Preliminary Issues

Key issues identified during the original public scoping include effects to the WSA, IRAs, and wildlife habitat. Additional public concerns addressed in the analysis include potential effects related to unauthorized motorized use, standing trees, spread of noxious weeds, road use, smoke, heavy equipment, and biodiversity.

In March 2012, the Palisades WSA map used by the Forest Service for analysis of the Teton to Snake Fuels Management Project was questioned. In July 2012, Jackson District Ranger Dale Deiter put the project on hold until more clarity was obtained regarding the WSA boundary. Since then extensive record searches have occurred uncovering many valuable maps and memos. In addition, two public meetings were held with people interested in the boundary issue. Based on the best information available at this time, the Forest Service is proceeding with the RARE II map from 1977 (Roadless Area and Review Evalaution process). The map package is expected to be assembled in March 2013 and will be submitted to the Regional and Washington Offices of the Forest Service for review and approval. Upon approval, a certified boundary and legal description will be prepared by the Forest Service lands office with final approval from the Regional Forester. A decision on the Teton to Snake Fuels Management Project would only be made after the Palisades WSA boundary is approved.

Responsible Official

Dale Deiter, District Ranger, Jackson Ranger District, Bridger-Teton National Forest

Nature of Decision To Be Made

The District Ranger will decide whether to implement one of the alternatives designed to meet the purpose and need for the project, or take no action.

Permits or Licenses Required

A permit would be required from the State of Wyoming prior to any prescribed burning. The appropriate regulatory agencies will be consulted regarding national or state required permits associated with roads used in project implementation, and required permits obtained prior to implementation.

Scoping Process

This notice of intent initiates the scoping process, which guides the development of the environmental impact statement. As noted above, comments submitted during the scoping period beginning in 2010 will be brought forward in the EIS so there is no need to re-submit them. New information and concerns describing site-specific unwanted effects related to Alternative 3 would be useful.

It is important that reviewers provide their comments at such times and in such manner that they are useful to the agency's preparation of the environmental impact statement. Therefore, comments should be provided prior to the close of the comment period and should clearly articulate the reviewer's concerns and contentions.

Include the following information with your comments: Your name, address, email (optional), and telephone number; the project name: Teton to Snake Fuels Management Project; and site-specific comments, along with supporting information you believe will help identify issues, develop alternatives, or predict environmental effects of this proposal. The most useful comments provide new information or describe unwanted environmental effects potentially caused by the proposed action. If you reference scientific literature in your comments, you must provide a copy of the entire reference you have cited and include the predicted site-specific effects supported by the literature.

Comments received in response to this solicitation, including names and addresses of those who comment, will be part of the public record for this proposed action. Comments submitted anonymously will be accepted and considered; however anonymous comments will not provide the agency with the ability to provide you with project updates.

Dated: February 21, 2013.
Dale Deiter
Jackson District Ranger.

[FR Doc. 2013-04498 Filed 2-26-13; 8:45 am]

BILLING CODE 3410-11-P